DEPARTMENT OF TRANSPORTATION

Maritime Administration

[Docket No. MARAD-2025-1158]

Request for Comments on the Revision of a Currently Approved Collection: Regulations for Making Excess or Surplus Federal Property Available to the U.S. Merchant Marine Academy, State Maritime Academies and Non-Profit Maritime Training Facilities

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0504 (Regulations for Making Excess or Surplus Federal Property Available to the U.S. Merchant Marine Academy, State Maritime Academies and Non-Profit Maritime Training Facilities) is used to determine compliance with applicable statutory requirements regarding surplus government property. This collection is being revised to include a new form MA-1073C Agreement for Donation of Federal Property for Historical Purposes. MARAD is required to publish this notice in the Federal Register to obtain comments from the public and affected agencies.

DATES: Comments must be submitted on or before February 23, 2026.

ADDRESSES: You may submit comments identified by Docket No. MARAD-2025-1158 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize or include your comments in the request for OMB's clearance of this information collection.

FOR FURTHER INFORMATION CONTACT: Katrina McRae, 202-366-3198, Office of Sealift Support, U.S. Department of Transportation, Maritime Administration, 1200 New Jersey Avenue SE, Washington, DC 20590, Email: Katrina.mcrae@dot.gov.

SUPPLEMENTARY INFORMATION:

Title: Regulations for Making Excess or Surplus Federal Property Available to the U.S. Merchant Marine Academy, State Maritime Academies and Non-Profit Maritime Training Facilities.

OMB Control Number: 2133-0504.

Type of Request: Revision of a currently approved collection.

Abstract: MARAD requires approved maritime training institutions seeking excess or surplus government property to provide a statement of need/justification prior to acquiring the property, using this information collection.

Respondents: Maritime training institutions, such as the U.S. Merchant Marine Academy, State Maritime Academies and non-profit maritime institutions.

Affected Public: State, Local or Tribal Government.

Estimated Number of Respondents: 40.

Estimated Number of Responses: 360.

Estimated Hours per Response: Between 1 and 4.

Annual Estimated Total Annual Burden Hours: 360.

Frequency of Response: Annually.

(Authority: The Paperwork Reduction Act of 1995; 44 U.S.C. Chapter 35, as amended; and 49 CFR 1.49.)

By Order of the Maritime Administration.
Gabriel Chavez,
Secretary, Maritime Administration.

[FR Doc. 2025-23729 Filed 12-22-25; 8:45 am]

BILLING CODE 4910-81-P